NUCLEAR REGULATORY COMMISSION

[Docket No. 50-131; NRC-2012-0141]

U.S. Department of Veterans Affairs Alan J. Blotcky Reactor Facility

AGENCY: Nuclear Regulatory Commission.

ACTION: License amendment application; issuance.

SUMMARY: The U.S. Nuclear Regulatory Commission (NRC) reviewed an application by the U.S. Department of Veterans Affairs at the Nebraska-Western Iowa Health Care System Omaha Division (Omaha VAMC, or the licensee) for amendment of Facility Operating License No. R-57 for the Alan J. Blotcky Reactor Facility (AJBRF) in Omaha, Nebraska. The application requested NRC approval of the AJBRF Decommissioning Plan (DP).

DATES: Notice of amendment to Facility Operating License No. R-57 given on January 21, 2015.

ADDRESSES: Please refer to Docket ID NRC-2012-0141 when contacting the NRC about the availability of information regarding this document. You may obtain publicly-available information related to this document using any of the following methods:

• Federal Rulemaking Web site: Go to http://www.regulations.gov and search for Docket ID NRC-2012-0141. Address questions about NRC dockets to Carol Gallagher; telephone: 301-287-3422; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in the SUPPLEMENTARY INFORMATION section.

• NRC's PDR: You may examine and purchase copies of public documents at the NRC's PDR, Room O1-F21, One White Flint North, 11555 Rockville Pike, Rockville, Maryland 20852.

FOR FURTHER INFORMATION CONTACT: Theodore Smith, Office of Nuclear Material Safety and Safeguards, U.S. Nuclear Regulatory Commission, Washington, DC 20555-0001; telephone: 301-415-6721; email: Theodore.Smith@nrc.gov.

SUPPLEMENTARY INFORMATION:

The AJBRF was operated by the Omaha VAMC to support nuclear medicine and research programs conducted at the Omaha VAMC medical center. Between 1959 and 1965, the facility was funded as a national laboratory and employed approximately 30 people. The AJBRF was primarily used for neutron activation of biological samples, but was also used for training Fort Calhoun Station nuclear power reactor operators.

By letters dated September 21, 2004, August 15, 2011, March 8, 2012, May 21, 2014, and November 12, 2014, (ADAMS Accession Nos. ML042740512, ML11255A334, ML12075A202, ML14150A404, and ML14335A597, respectively), Omaha VAMC submitted to the NRC an application for amendment of Facility Operating License No. R-57 for AJBRF. The application requested NRC approval of the AJBRF DP.

Pursuant to § 50.82(b)(5) of Title 10 of the Code of Federal Regulations (10 CFR), the AJBRF DP was noticed in the Federal Register on June 20, 2012 (77 FR 37074). The Federal Register notice provided opportunity for the public to provide comments, request a hearing, and petition for leave to intervene. No comments or other responses were received. The proposed DP contains additional information but has not changed substantially since the DP was noticed in 2012; therefore, a new notice was not required. Specifically, the release criteria were updated to refer to Inspection and Enforcement Circular 81-07.

Pursuant to 10 CFR 50.82(b)(5), the NRC staff has concluded that the proposed AJBRF demonstrates that the decommissioning will be performed in accordance with the regulations of 10 CFR part 50 and will not be inimical to the common defense and security or to the health and safety of the public. The NRC staff's conclusions have been documented in a Safety Evaluation Report (ADAMS Accession No. ML14318A906). Therefore, the NRC has approved the AJBRF DP by amending Facility Operating License No. R-57.

Dated at Rockville, Maryland, this 8th day of January 2015.
For the Nuclear Regulatory Commission.
Andrew Persinko,
Deputy Director, Division of Decommissioning, Uranium Recovery, and Waste Programs, Office of Nuclear Material Safety and Safeguards.

[FR Doc. 2015-00923 Filed 1-20-15; 8:45 am]

BILLING CODE 7590-01-P